DEPARTMENT OF THE INTERIOR

National Park Service

[N6822; NPS-WASO-NAGPRA-NPS0041683; PPWOCRADN0-PCU00RP14.R50000]

Notice of Intended Repatriation: Fowler Museum, University of California, Los Angeles, Los Angeles, CA

AGENCY: National Park Service, Interior.

ACTION: Notice.

SUMMARY: In accordance with the Native American Graves Protection and Repatriation Act (NAGPRA), the Fowler Museum, University of California, Los Angeles (Fowler Museum at UCLA) intends to repatriate certain cultural items that meet the definition of objects of cultural patrimony and that have a cultural affiliation with the Indian Tribes or Native Hawaiian organizations in this notice.

DATES: Repatriation of the cultural items in this notice may occur on or after February 6, 2026.

ADDRESSES: Send additional, written requests for repatriation of the cultural items in this notice to Allison Fischer-Olson, Fowler Museum at UCLA, Box 951549, Los Angeles, CA 90095-1549, email afischerolson@arts.ucla.edu.

SUPPLEMENTARY INFORMATION: This notice is published as part of the National Park Service's administrative responsibilities under NAGPRA. The determinations in this notice are the sole responsibility of the Fowler Museum at UCLA, and additional information on the determinations in this notice, including the results of consultation, can be found in the summary or related records. The National Park Service is not responsible for the determinations in this notice.

Abstract of Information Available

A total of 766 lots of cultural items have been requested for repatriation.

The two lots objects of cultural patrimony are two lots of groundstone. These cultural items were removed from the surface of CA-RIV-131, located in Reche Canyon, Riverside County, CA, in Spring 1953 by Dr. Clement W. Meighan during an official UCLA expedition. They were received by the Fowler Museum at UCLA prior to June 1953 and comprise Accession 64. Treatment history of these items is unknown. In consultation with the Yuhaaviatam of San Manuel Nation (also federally recognized as the San Manuel Band of Mission Indians), these items were identified as culturally affiliated with the Serrano peoples and were taken from a site known to be within Serrano ancestral territory.

The 22 lots of objects of cultural patrimony are 14 lots of chipped stone, one lot of burned faunal bone, two lots of groundstone, and five lots of other stone materials. These cultural items were removed from the surface of CA-LAN-419, located in Lancaster, Los Angeles County, CA, in 1973 or 1974 by Eugene Stelzer. They were received by the Fowler Museum at UCLA in 1975 and comprise Accession 140. Treatment history of these items is unknown. In consultation with the Yuhaaviatam of San Manuel Nation (also federally recognized as the San Manuel Band of Mission Indians) and non-federally recognized California Indian groups including the Fernandeño Tataviam Band of Mission Indians, these items were identified as culturally affiliated with the Serrano and Tataviam peoples based on Tribal Traditional Knowledge, genealogical information, geographical location within Serrano and Tataviam ancestral territory, and ethnographic, historical, and archaeological records. The Santa Ynez Band of Chumash Indians also identified this site as within Chumash ancestral territory.

The 447 lots of objects of cultural patrimony are two lots of groundstone and 445 lots of chipped stone. These cultural items were excavated from CA-LAN-296 and CA-LAN-297, located in Fairmont Buttes, Los Angeles County, CA, in 1964 by Thomas C. Blackburn as part of a UCLA Archaeological Survey project. They were received by the Fowler Museum at UCLA on September 12, 1966, and comprise Accession 503. Treatment history of these items is unknown.

In consultation with the Yuhaaviatam of San Manuel Nation (also federally recognized as the San Manuel Band of Mission Indians) and non-federally recognized California Indian groups including the Fernandeño Tataviam Band of Mission Indians, these items were identified as culturally affiliated with the Serrano and Tataviam peoples based on Tribal Traditional Knowledge, genealogical information, geographical location within Serrano and Tataviam ancestral territory, and ethnographic, historical, and archaeological records. The Santa Ynez Band of Chumash Indians also identified this site as within Chumash ancestral territory.

The two lots of objects of cultural patrimony are two lots of ceramic sherds. These cultural items were removed from the surface of sites in Yucca Valley and Coyote Hole, San Bernardino County, CA, by unknown collectors between 1959-1961. They were received by the Fowler Museum at UCLA prior to 1966 and comprise Accession 513. Treatment history of these items is unknown. In consultation with the Yuhaaviatam of San Manuel Nation (also federally recognized as the San Manuel Band of Mission Indians), these items were identified as culturally affiliated with the Serrano peoples and were taken from a site known to be within Serrano ancestral territory.

The one lot of objects of cultural patrimony is a crescent-shaped pendant made of pale green shale or soapstone. This cultural item, removed from CA-LAN-1252, located in Palmdale, Los Angeles County, CA, was donated by P. de Barros and G. Russell to the Fowler Museum at UCLA on January 23, 1986, and comprises Accession 712. Treatment history of this item is unknown. In consultation with the Yuhaaviatam of San Manuel Nation (also federally recognized as the San Manuel Band of Mission Indians) and non-federally recognized California Indian groups including the Fernandeño Tataviam Band of Mission Indians, these items were identified as culturally affiliated with the Serrano and Tataviam peoples based on Tribal Traditional Knowledge, genealogical information, geographical location within Serrano and Tataviam ancestral territory, and ethnographic, historical, and archaeological records.

The one lot of objects of cultural patrimony is one lot of photographic negatives of petroglyphs at CA-SBR-281 in Black Canyon, San Bernardino County, CA. The collection history of these photographs is unknown but they were possibly received by the Fowler Museum at UCLA in 1986 and comprise Accession 825. Treatment history of these items is unknown. In consultation with the Yuhaaviatam of San Manuel Nation (also federally recognized as the San Manuel Band of Mission Indians) and non-federally recognized California Indian groups including the Fernandeño Tataviam Band of Mission Indians, these photographs were identified as culturally affiliated with the Serrano and Tataviam peoples based on Tribal Traditional Knowledge, genealogical information, geographical location within Serrano and Tataviam ancestral territory, and ethnographic, historical, and archaeological records.

The 125 lots of objects of cultural patrimony are 94 lots of stone/lithic fragments and 31 lots of chipped stone. These cultural items were removed from CA-LAN-1340, located in Agua Dulce, Los Angeles County, CA, by Greenwood and Associates around 1987-1988 ahead of proposed development. They were received by the Fowler Museum at UCLA on an unknown date and comprise Accession 833. Treatment history of these items is unknown. In consultation with the Yuhaaviatam of San Manuel Nation (also federally recognized as the San Manuel Band of Mission Indians) and non-federally recognized California Indian groups including the Fernandeño Tataviam Band of Mission Indians, these items were identified as culturally affiliated with the Serrano and Tataviam peoples based on Tribal Traditional Knowledge, genealogical information, geographical location within Serrano and Tataviam ancestral territory, and ethnographic, historical, and archaeological records.

The 10 lots of objects of cultural patrimony are one lot of faunal bone and nine lots of historic materials (glass, metal, ceramics, leather). These cultural items were removed from CA-LAN-1431H, located in Swarthout Valley, Los Angeles County, CA, from a backhoe trench excavated by Dr. Ray Weldon (geologist, University of Oregon) in October 1988. Weldon was conducting research on the San Andreas Fault when he encountered this cultural deposit. The items were received by the Fowler Museum at UCLA sometime after October 1988 and comprise Accession 837. Treatment history of these items is unknown. In consultation with the Yuhaaviatam of San Manuel Nation (also federally recognized as the San Manuel Band of Mission Indians), these items were identified as culturally affiliated with the Serrano peoples and were taken from a site known to be within Serrano ancestral territory.

The 156 lots of objects of cultural patrimony are five lots of groundstone and 151 lots of chipped stone. These cultural items were removed from CA-LAN-1252A, located in Palmdale, Los Angeles County, CA, by Chambers Group, Inc., in February 1990. They were received by the Fowler Museum at UCLA on April 12, 1990, and comprise Accession 866. Treatment history of these items is unknown. In consultation with the Yuhaaviatam of San Manuel Nation (also federally recognized as the San Manuel Band of Mission Indians) and non-federally recognized California Indian groups including the Fernandeño Tataviam Band of Mission Indians, these items were identified as culturally affiliated with the Serrano and Tataviam peoples based on Tribal Traditional Knowledge, genealogical information, geographical location within Serrano and Tataviam ancestral territory, and ethnographic, historical, and archaeological records.

Determinations

The Fowler Museum at UCLA has determined that:

• The 766 lots of objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the Yuhaaviatam of San Manuel Nation (previously listed as San Manuel Band of Mission Indians, California).

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after February 6, 2026. If competing requests for repatriation are received, the Fowler Museum at UCLA must determine the most appropriate requestor prior to repatriation. Requests for joint repatriation of the cultural items are considered a single request and not competing requests. The Fowler Museum at UCLA is responsible for sending a copy of this notice to the Indian Tribes and Native Hawaiian organizations identified in this notice and to any other consulting parties.

Authority: Native American Graves Protection and Repatriation Act, 25 U.S.C. 3004 and the implementing regulations, 43 CFR 10.9.

Dated: December 18, 2025.
Melanie O'Brien,
Manager, National NAGPRA Program.

[FR Doc. 2026-00073 Filed 1-6-26; 8:45 am]

BILLING CODE 4312-52-P